DEPARTMENT OF JUSTICE

Notice of Lodging of Proposed Consent Decree Under the Comprehensive Environmental Response, Compensation and Liability Act (“CERCLA”), the Clean Water Act (“CWA”), and the Missouri Rev. Stat. of the Missouri Clean Water Law

On December 20, 2013, the Department of Justice lodged a proposed Consent Decree with the United States District Court for the Eastern District of Missouri, Southeast Division, in the lawsuit entitled United States of America and the State of Missouri v. Teck American, Incorporated and DII Industries, LLC, Civil Action 1:13-cv-00188-LMB.

This is a civil action for the recovery of damages, for injury to, destruction of and loss of use of natural resources and their services resulting from the release and threat of a release of hazardous substances by Defendants Teck American, Incorporated and DII Industries, LLC at and from the former Magmont Mine and Mill in Bixby, Missouri, in the Viburnum Trend in Southeast Missouri.

The publication of this notice opens a period for public comment on the Proposed Consent Decree. The Department of Justice will receive comments concerning the settlement for a period of thirty (30) days from the date of publication of this notice. Comments should be addressed to the Assistant Attorney General, Environment and Natural Resources Division and should refer to United States of America and the State of Missouri v. Teck American, Incorporated and DII Industries, LLC, 1:13-cv-00188-LMB, Department of Justice # 90-11-3-09424.

Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $5.50 (25 cents per page reproduction cost) payable to the United States Treasury.

Susan M. Akers,
Assistant Section Chief, Environmental Enforcement Section, Environment and Natural Resources Division.

[FR Doc. 2013-31124 Filed 12-27-13; 8:45 am]

BILLING CODE 4410-15-P